DEPARTMENT OF HEALTH AND HUMAN SERVICES

Health Resources and Services Administration

Agency Information Collection Activities: Submission to OMB for Review and Approval; Public Comment Request; The Maternal, Infant, and Early Childhood Home Visiting Program Statewide Needs Assessment Update

AGENCY: Health Resources and Services Administration (HRSA), Department of Health and Human Services.

ACTION: Notice.

SUMMARY: In compliance with of the Paperwork Reduction Act of 1995, HRSA has submitted a Supplemental Information Request (SIR) to the Office of Management and Budget (OMB) for review and approval. A 60-day Federal Register Notice was published in the Federal Register on April 24, 2018. There were seven public comments. Comments submitted during the first public review of this SIR will be provided to OMB. OMB will accept further comments from the public during the review and approval period.

DATES: Comments on this SIR should be received no later than September 20, 2018.

ADDRESSES: Submit your comments, including the Information Collection Request (ICR) Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: The Maternal, Infant, and Early Childhood Home Visiting Program Statewide Needs Assessment Update, OMB No. 0906-XXX, New.

Abstract: HRSA is requesting approval to collect updated statewide needs assessments from Maternal, Infant, and Early Childhood Home Visiting (MIECHV) Program awardees. The previous statewide needs assessment that was approved under OMB control number 0915-0333 has been discontinued. Eligible entities that are states, the District of Columbia, and non-profit organizations will submit statewide needs assessment updates in response to a forthcoming SIR. The MIECHV Program, authorized by section 511 of the Social Security Act, 42 U.S.C. 711, and administered by HRSA in partnership with the Administration for Children and Families, supports voluntary, evidence-based home visiting services during pregnancy and to parents with young children up to kindergarten entry. States, territories, tribal entities, and in certain circumstances nonprofit organizations are eligible to receive funding through MIECHV and have the flexibility, within the parameters of the authorizing statute, to tailor the program to serve the specific needs of their communities.

The statewide needs assessment is a critical and foundational resource that assists awardees in identifying and understanding how to meet the needs of eligible families living in at-risk communities in their states.

After taking into consideration public comments in response to the 60-day Notice published in the Federal Register on April 24, 2018 (83 FR 17826), HRSA is proposing final revisions to the SIR guidance for the needs assessment update by making the following changes:

• Inserting references to the statutory requirements for each section of the guidance—specifically the sections of statute that require an assessment of state capacity to provide substance abuse treatment and counseling services.

• Increasing the burden estimate for respondents from 95.57 to 120 in response to comments that the original estimate was too low.

Need and Proposed Use of the Information: Congress, through enactment of the Social Security Act, Title V, Section 511 (42 U.S.C. 711), as amended, established the MIECHV Program. Section 50603 of the Bipartisan Budget Act of 2018 (Pub. L. 115-123) amended section 511(b)(1) of the Social Security Act, and requires that states review and update their statewide needs assessments (which may be separate from, but in coordination with, the Title V statewide needs assessment) no later than October 1, 2020. The Bipartisan Budget Act of 2018 further establishes that conducting a MIECHV statewide needs assessment update is a condition of receiving Title V Maternal and Child Health Service (MCH) Block Grant funding; submission of the MIECHV needs assessment update in accordance with the guidance in the SIR will meet this requirement.

In response to the forthcoming SIR, states will be required to submit an updated statewide needs assessment that identifies all of the following information, as required by the MIECHV authorizing statute:

(1) Communities with concentrations of (a) premature birth, low-birth weight infants, and infant mortality, including infant death due to neglect, or other indicators of at-risk prenatal, maternal, newborn, or child health; (b) poverty; (c) crime; (d) domestic violence; (e) high rates of high-school drop-outs; (f) substance abuse; (g) unemployment; or (h) child maltreatment.

(2) The quality and capacity of existing programs or initiatives for early childhood home visitation in the state including: The number and types of individuals and families who are receiving services under such programs or initiatives; the gaps in early childhood home visitation in the state; and the extent to which such programs or initiatives are meeting the needs of eligible families.

(3) The state's capacity for providing substance abuse treatment and counseling services to individuals and families in need of such treatment or services.

The forthcoming SIR will provide further guidance to states in updating their statewide needs assessments and submitting the required information to HRSA. States that have elected not to apply or be awarded MIECHV funds are encouraged to work with nonprofit organizations that have received awards to provide MIECHV services within the state and indicate whether they will submit their needs assessments directly or through the nonprofit organization awardee. Nonprofit awardees will need to provide documentation to demonstrate that they have been authorized or requested by the state in which they provide services to submit a needs assessment on behalf of the state. Documentation, such as a letter, may come from a state's Title V agency; an other health, education or human services state agency; or the governor's office.

HRSA, states, and nonprofits providing MIECHV services within states will use the information collected through the needs assessment update to reaffirm the provision of MIECHV home visiting services in at-risk communities. The information will also be used to support program planning, improvement, and decision-making. The purpose of updating the statewide needs assessments is for awardees to gather more recent information on community needs and ensure that MIECHV programs are being operated in areas of high need. However, the requirement for such an update should not be construed as requiring moving MIECHV-funded home visiting programs, defunding of programs for the sole purpose of moving services to other communities, or otherwise disrupting existing home visiting programs, their relationships in the community, and their services to eligible families. The statutory requiremenets of a needs assessment update also apply to territory awardees, but this ICR does not include guidance, nor a burden estimate, for these awardees. Recognizing potential challenges related to the availability of population health data for the territories, a separate SIR will provide guidance on the needs assessment update to territories eligible to apply for MIECHV funds.

Likely Respondents: MIECHV Program Awardees that are states, territories, and, where applicable, nonprofit organizations providing services within states.

Burden Statement: Burden in this context means the time expended by persons to generate, maintain, retain, disclose, or provide the information requested. This includes the time needed to review instructions and supporting materials; to collect and analyze data; engage with stakeholders and coordinate with state level partners; and to draft and submit the report. The table below summarizes the total annual burden hours estimated for this SIR.

Total Estimated Annualized Burden Hours
Instrument | Number of respondents | Number of responses per respondent | Total responses | Average burden hours per response | Total burden hours
Maternal, Infant, and Early Childhood Home Visiting Program Statewide Needs Assessment Update | 51 | 1 | 51 | 120 | 6,120
Total | 51 |  | 51 |  | 6,120

Amy P. McNulty,
Acting Director, Division of the Executive Secretariat.

[FR Doc. 2018-17972 Filed 8-20-18; 8:45 am]

BILLING CODE 4165-15-P